DEPARTMENT OF COMMERCE

National Oceanic and Atmospheric Administration

RIN 0648-XA221

Pacific Fishery Management Council (Pacific Council); March 4-10, 2011 Pacific Council Meetings

AGENCY: NMFS, National Oceanic and Atmospheric Administration, Commerce.

ACTION: Notice of public meetings.

SUMMARY: The Pacific Council and its advisory entities will hold public meetings.

DATES: The Pacific Council and its advisory entities will meet March 4-10, 2011. The Pacific Council meeting will begin on Saturday, March 5, 2011 at 8 a.m., reconvening each day through Thursday, March 10, 2011. All meetings are open to the public, except a closed session will be held from 8 a.m. until 9 a.m. on Saturday, March 5 to address litigation and personnel matters. The Pacific Council will meet as late as necessary each day to complete its scheduled business.

ADDRESSES: Meetings of the Pacific Council and its advisory entities will be held at the Hilton Vancouver Hotel, 301 West Sixth Street, Vancouver, Washington 98660; telephone: 360-993-4500. The Pacific Council address is Pacific Fishery Management Council, 7700 NE Ambassador Place, Suite 101, Portland, Oregon 97220.

FOR FURTHER INFORMATION CONTACT: Dr. Donald O. McIsaac, Executive Director; telephone: 503-820-2280 or 866-806-7204 toll free; or access the Pacific Council Web site, http://www.pcouncil.org for the current meeting location, proposed agenda, and meeting briefing materials.

SUPPLEMENTARY INFORMATION: The following items are on the Pacific Council agenda, but not necessarily in this order:

A. Call to Order

1. Opening Remarks

2. Roll Call

3. Executive Director's Report

4. Approve Agenda

B. Open Comment Period

1. Comments on Non-Agenda Items

C. Coastal Pelagic Species Management

1. Exempted Fishing Permits for 2011

D. Marine Protected Areas

1. Olympic Coast National Marine Sanctuary Management Plan Review

E. Habitat

1. Current Habitat Issues

F. Pacific Halibut Management

1. Report on the International Pacific Halibut Commission Meeting

2. Incidental Catch Regulations in the Salmon Troll and Fixed Gear Sablefish Fisheries

3. Preliminary Alternatives for Incidental Catch Retention of Pacific Halibut in the Limited Entry and Open Access Fixed Gear Sablefish Fisheries

G. Salmon Management

1. Review of 2010 Fisheries and Summary of 2011 Stock Abundance Forecasts

2. Identification of Stocks Not Meeting Conservation Objectives

3. Sacramento River Fall Chinook Overfishing Assessment

4. Identification of Management Objectives and Preliminary Definition of 2011 Salmon Management Alternatives

5. Council Recommendations for 2011 Management Alternative Analysis

6. National Marine Fisheries Service Report

7. Further Council Direction for 2011 Management Alternatives

8. Adoption of 2011 Management Alternatives for Public Review

9. Salmon Hearings Officers

H. Groundfish Management

1. National Marine Fisheries Service Report

2. Process for Implementing 2011-2012 Specifications and Management Measures

3. Pacific Whiting Harvest Specifications for 2011

4. Consideration of Inseason Adjustments—Part I

5. Trailing Trawl Rationalization and Allocation Amendments and Actions

6. Consideration of Inseason Adjustments—Part II, If Needed

I. Enforcement Issues

1. Current Enforcement Issues

J. Ecosystem Based Management

1. Ecosystem Fishery Management Plan

K. Administrative Matters

1. Legislative Matters

2. Approval of Council Meeting Minutes

3. Membership Appointments and Council Operating Procedures

4. Future Council Meeting Agenda and Workload Planning

Schedule of Ancillary Meetings

Day 1—Friday, March 4, 2011

Habitat Committee—8 a.m.

Scientific and Statistical Committee—8 a.m.

Legislative Committee—2 p.m.

Day 2—Saturday, March 5, 2011

California State Delegation—7 a.m.

Oregon State Delegation—7 a.m.

Washington State Delegation—7 a.m.

Groundfish Advisory Subpanel—8 a.m.

Groundfish Management Team—8 a.m.

Habitat Committee—8 a.m.

Salmon Advisory Subpanel—8 a.m.

Salmon Technical Team—8 a.m.

Scientific and Statistical Committee—8 a.m.

Enforcement Consultants—4:30 p.m.

Tribal Policy Group—As Needed

Tribal and Washington Technical Group—As Needed

Day 3—Sunday, March 6, 2011

California State Delegation—7 a.m.

Oregon State Delegation—7 a.m.

Washington State Delegation—7 a.m.

Groundfish Advisory Subpanel—8 a.m.

Groundfish Management Team—8 a.m.

Salmon Advisory Subpanel—8 a.m.

Salmon Technical Team—8 a.m.

Enforcement Consultants—As Needed

Tribal Policy Group—As Needed

Tribal and Washington Technical Group—As Needed

Day 4—Monday, March 7, 2011

California State Delegation—7 a.m.

Oregon State Delegation—7 a.m.

Washington State Delegation—7 a.m.

Groundfish Advisory Subpanel—8 a.m.

Groundfish Management Team—8 a.m.

Salmon Advisory Subpanel—8 a.m.

Salmon Technical Team—8 a.m.

Enforcement Consultants—As Needed

Tribal Policy Group—As Needed

Tribal and Washington Technical Group—As Needed

Day 5—Tuesday, March 8, 2011

California State Delegation—7 a.m.

Oregon State Delegation—7 a.m.

Washington State Delegation—7 a.m.

Groundfish Advisory Subpanel—8 a.m.

Groundfish Management Team—8 a.m.

Salmon Advisory Subpanel—8 a.m.

Salmon Technical Team—8 a.m.

Enforcement Consultants—As Needed

Tribal Policy Group—As Needed

Tribal and Washington Technical Group—As Needed

Day 6—Wednesday, March 9, 2011

California State Delegation—7 a.m.

Oregon State Delegation—7 a.m.

Washington State Delegation—7 a.m.

Groundfish Advisory Subpanel—8 a.m.

Groundfish Management Team—8 a.m.

Salmon Advisory Subpanel—8 a.m.

Salmon Technical Team—8 a.m.

Enforcement Consultants—As Needed

Tribal Policy Group—As Needed

Tribal and Washington Technical Group—As Needed

Day 7—Thursday, March 10, 2011

California State Delegation—7 a.m.

Oregon State Delegation—7 a.m.

Washington State Delegation—7 a.m.

Enforcement Consultants—As Needed

Tribal Policy Group—As Needed

Tribal and Washington Technical Group—As Needed

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Carolyn Porter at 503-820-2280 at least five days prior to the meeting date.

Dated: February 11, 2011.
Tracey L. Thompson,
Acting Director, Office of Sustainable Fisheries, National Marine Fisheries Service.

[FR Doc. 2011-3472 Filed 2-15-11; 8:45 am]

BILLING CODE 3510-22-P